DEPARTMENT OF HOMELAND SECURITY

Coast Guard

33 CFR Part 117

[Docket No. USCG-2009-0415]

RIN 1625-AA09

Drawbridge Operation Regulation; Atlantic Intracoastal Waterway, New Smyrna Beach, FL

AGENCY: Coast Guard, DHS.

ACTION: Notice of temporary deviation from regulations.

SUMMARY: The Commander, Seventh Coast Guard District, has issued a temporary deviation from the regulation governing the operation of the Coronado Beach Bridge (SR 44) across the Atlantic Intracoastal Waterway, mile 854, at New Smyrna Beach, FL. The deviation is necessary to repair the bridge. This deviation allows the bridge to remain closed to navigation during the deviation period.

DATES: This deviation is effective from 6 a.m. on June 30, 2009 through 6 a.m. on July 3, 2009.

ADDRESSES: Documents mentioned in this preamble as being available in the docket are part of docket USCG-2009-0415 and are available online by going to http://www.regulations.gov, selecting the Advanced Docket Search option on the right side of the screen, inserting USCG-2009-0415 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Michael Lieberum, Bridge Branch, Seventh Coast Guard District, telephone 305-415-6744, e-mail Michael.b.lieberum@uscg.mil. If you have questions on viewing the docket, call Renee V. Wright, Program Manager, Docket Operations, telephone 202-366-9826.

SUPPLEMENTARY INFORMATION: M&J Construction Company of behalf of the bridge owner, Florida Department of Transportation (FDOT), has requested a deviation to the regulation of the Coronado Beach/George C. Musson (SR 44) Bridge across the Atlantic Intracoastal Waterway, mile 854.0, New Smyrna, FL. The bridge provides a vertical clearance of 24 feet in the closed position. As required by 33 CFR 117.261(h), the bridge shall open on signal, except that from 7 a.m. until 7 p.m., each day of the week, the draw need only open on the hour, twenty minutes past the hour and forty minutes past the hour. The deviation is from 6 a.m. on June 30, 2009 through 6 a.m. on July 3, 2009. During the deviation this bridge will remain closed to navigation. Vessels not requiring an opening may pass at any time. This action is necessary because the bridge will be inoperable in a jacked-up state to perform repairs. The action will affect all vessels requiring an opening during this time period. Vessels unable to transit through this area may transit via an ocean route or schedule their transit prior to or after the repair work is completed.

In accordance with 33 CFR 117.35(e), the drawbridge must return to its regular operating schedule immediately at the end of the designated time period. This deviation from the operating regulations is authorized under 33 CFR 117.35.

Dated: May 26, 2009.
R.S. Branham,
Rear Admiral, U.S. Coast Guard, Commander, Coast Guard Seventh District.

[FR Doc. E9-13640 Filed 6-9-09; 8:45 am]

BILLING CODE 4910-15-P